INTERNATIONAL TRADE COMMISSION

[Inv. No. 337-TA-482]

In the Matter of Certain Compact Disc and DVD Holders; Notice of Investigation

AGENCY: U.S. International Trade Commission.

ACTION: Institution of investigation pursuant to 19 U.S.C. 1337.

SUMMARY: Notice is hereby given that a complaint was filed with the U.S. International Trade Commission on September 18, 2002, under section 337 of the Tariff Act of 1930, as amended, 19 U.S.C. 1337, on behalf of DuBois Limited of the United Kingdom. Supplements to the complaint were filed on October 7 and 9, 2002. The complaint as supplemented alleges violations of section 337 in the importation into the United States, the sale for importation, and the sale within the United States after importation of certain compact disc and DVD holders by reason of infringement of U.S. Design Patent No. D441,212. The complaint further alleges that an industry in the United States exists as required by subsection (a)(2) of section 337.

The complainant requests that the Commission institute an investigation and, after the investigation, issue permanent exclusion orders and a permanent cease and desist order.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal at (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS-ON-LINE) at http://dockets.usitc.gov/eol/public.

FOR FURTHER INFORMATION CONTACT: Benjamin D.M. Wood, Esq., Office of Unfair Import Investigations, U.S. International Trade Commission, telephone (202) 205-2582.

Authority: The authority for institution of this investigation is contained in section 337 of the Tariff Act of 1930, as amended, and in section 210.10 of the Commission's Rules of Practice and Procedure, 19 CFR 210.10 (2002).

Scope of Investigation: Having considered the complaint, the U.S. International Trade Commission, on October 15, 2002, Ordered that—

(1) Pursuant to subsection (b) of section 337 of the Tariff Act of 1930, as amended, an investigation be instituted to determine whether there is a violation of subsection (a)(1)(B) of section 337 in the importation into the United States, the sale for importation, or the sale within the United States after importation, of certain compact disc and DVD holders by reason of infringement of U.S. Design Patent No. D441,212, and whether an industry in the United States exists as required by subsection (a)(2) of section 337.

(2) For the purpose of the investigation so instituted, the following are hereby named as parties upon which this notice of investigation shall be served:

(a) The complainant is—DuBois Limited, Amaray House, Arkwright Road, Corby, Northamptonshire, NN7 5AE U.K.

(b) The respondents are the following companies alleged to be in violation of section 337, and are the parties upon which the complaint is to be served:

Viva Magnetics Limited, 16F, E On Factory Bldg., 14 Wong Chuk Hang Road, Aberdeen, Hong Kong.

Matrix Associates, Inc., 1425 Monte Grande Pl., Pacific Palisades, CA 90272.

Finest Industrial Co., Ltd., Flat A, 13/F, Sze Hing Loong Ind. Bldg., 44 Lee Chung Street, Chaiwan, Hong Kong.

Ponica Industries Corp., Corporate Headquarters, 125 Klug Circle, Corona, CA 92880.

Carthuplas, Inc., 7 Shape Drive, Kennebunk, ME 04043.

Scanavo A/S, Roskildevej 328, DK-2630 Taastrup, Denmark, Wah-de Electron, Co. Ltd.

No. 1, Alley 22, Lane 205, Nanshan Road, Sec. 2, Luchu Hsiang, Taoyuan Hsien, Taiwan,

Dragon Star Magnetics, Ltd., Room 406, 4/F Cheung Tat Centre, 18 Cheung Lee Street, Chai Wan, Hong Kong.

(c) Benjamin D.M. Wood, Esq., Office of Unfair Import Investigations, U.S. International Trade Commission, 500 E Street, SW., Suite 401, Washington, DC 20436, who shall be the Commission investigative attorney, party to this investigation; and

(3) For the investigation so instituted, the Honorable Sidney Harris is designated as the presiding administrative law judge. Responses to the complaint and the notice of investigation must be submitted by the named respondents in accordance with section 210.13 of the Commission's Rules of Practice and Procedure, 19 CFR 210.13. Pursuant to 19 CFR 201.16(d) and 210.13(a), such responses will be considered by the Commission if received no later than 20 days after the date of service by the Commission of the complaint and the notice of investigation. Extensions of time for submitting responses to the complaint will not be granted unless good cause therefor is shown. Failure of a respondent to file a timely response to each allegation in the complaint and in this notice may be deemed to constitute a waiver of the right to appear and contest the allegations of the complaint and to authorize the administrative law judge and the Commission, without further notice to that respondent, to find the facts to be as alleged in the complaint and this notice and to enter both an initial determination and a final determination containing such findings, and may result in the issuance of a limited exclusion order or a cease and desist order or both directed against that respondent.

By order of the Commission.
Issued: October 16, 2002.
Marilyn R. Abbott,
Secretary to the Commission.

[FR Doc. 02-26734 Filed 10-21-02; 8:45 am]

BILLING CODE 7020-02-P